ENVIRONMENTAL PROTECTION AGENCY

[FRL-7115-9]

Interagency Project To Clean Up Open Dumps on Tribal Lands: Request for Proposals

AGENCY: Environmental Protection Agency (EPA).

ACTION: Notice of availability.

SUMMARY: The Tribal Solid Waste Interagency Workgroup (Workgroup) is soliciting proposals for its fourth year of the Tribal Open Dump Cleanup Project (Project). In FY01, the Workgroup made more than $2.8 million available to fully or partially fund 16 selected projects. Each of these projects will result in the closure or upgrade of one or more open dumps located on tribal lands. We are projecting a similar amount of funding for FY02. The Cleanup Project is part of a federal effort to help tribes comprehensively address their solid waste needs. The purpose of the Cleanup Project is to assist with closing or upgrading tribal high-threat waste disposal sites and providing alternative disposal and integrated solid waste management.

The Workgroup was established in April 1998 to coordinate federal assistance to tribes in bringing their waste disposal sites into compliance with the municipal solid waste landfill criteria (40 CFR part 258). Current Workgroup members include representatives from the U.S. Environmental Protection Agency (EPA); the Bureau of Indian Affairs (BIA); the Indian Health Service (IHS); the Bureau of Land Management; the departments of Agriculture, Defense, and Housing and Urban Development; and the National Oceanic and Atmospheric Administration.

Criteria: Eligible recipients of assistance under the Cleanup Project include federally recognized tribes and intertribal consortiums. A full explanation of the submittal process, the qualifying requirements, and the criteria that will be used to evaluate proposals for this project may be found in the Request for Proposals package.

DATES: For consideration, proposals must be received by close of business on January 31, 2002. Proposals postmarked on or before but not received by the closing date will not be considered. Please do not rely solely on overnight mail to meet the deadlines.

FOR FURTHER INFORMATION: Copies of the Request for Proposals package may be downloaded from the Internet at <www.epa.gov/tribalmsw> by clicking on “What's New.” Copies may also be obtained by contacting EPA, IHS or BIA regional or area offices or one of the following Workgroup representatives:

EPA—Melanie Barger Garvey, 202-564-2579, Christopher Dege, 703-308-2392, or Tonya Hawkins, 703-308-8278.

IHS—Steve Aoyama, 301-443-1046.

BIA—Debbie McBride, 202-208-3606.

Dated: November 30, 2001.
Elizabeth A. Cotsworth,
Director, Office of Solid Waste.

[FR Doc. 01-30589 Filed 12-10-01; 8:45 am]

BILLING CODE 6560-50-P